DEPARTMENT OF ENERGY

Federal Energy Regulatory Commission

[Docket No. RP04-276-000]

Southern Star Central Gas Pipeline, Inc.; Notice of Informal Settlement Conference

October 14, 2004.

Take notice that an informal settlement conference will be convened in this proceeding commencing at 10 a.m. (e.s.t.) on Thursday, November 18, 2004, and continuing Friday, November 19, 2004, in a room to be designated at the Federal Energy Regulatory Commission, 888 First Street, NE., Washington, DC 20426, for the purpose of exploring the possible settlement of the above-referenced docket.

Any party, as defined by 18 CFR 385.102(c), or any participant as defined by 18 CFR 385.102(b), is invited to attend. Persons wishing to become a party must move to intervene and receive intervenor status pursuant to the Commission's regulations (18 CFR 385.214).

For additional information, please contact Bob Keegan at (202) 502-8158, James.Keegan@ferc.gov.

Magalie R. Salas,
Secretary.

[FR Doc. E4-2769 Filed 10-20-04; 8:45 am]

BILLING CODE 6717-01-P